DEPARTMENT OF HEALTH AND HUMAN SERVICES

National Institutes of Health

National Heart, Lung, and Blood Institute; Amended Notice of Meeting

Notice is hereby given of a change in the meeting of the Board of Scientific Counselors, NHLBI, June 6, 2002, 8 a.m. to June 7, 2002, 5 p.m., National Institutes of Health, 9000 Rockville Pike, Building 10, Room 7S235, Bethesda, MD 20892 which was published in the Federal Register on April 18, 2002, FR Vol. 67 Pg. 19197.

The Board of Scientific Counselors, NHLBI meeting date was changed from June 6-7, 2002, to June 6, 2002. Time and location remain the same. The meeting is closed to the public.

Dated: May 23, 2002.
LaVerne Y. Stringfield,
Director, Office of Federal Advisory Committee Policy.

[FR Doc. 02-13716 Filed 5-30-02; 8:45 am]

BILLING CODE 4140-01-M